DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, and U.S. Army Corps of Engineers (USACE), U.S. Fish and Wildlife, U.S.D.A. Forest Service, U.S. National Park Service, U.S. National Oceanic Atmospheric Administration National Marine Fisheries.

SUMMARY: The FHWA, on behalf of Caltrans, is issuing this notice to announce actions taken by Caltrans, and other Federal Agencies: US Army Corps of Engineers (USACE), US Fish and Wildlife, USDA Six Rivers National Forest: Smith River National Recreation Area, US National Park Service, NOAA National Marine Fisheries, that are final within the meaning of 23 U.S.C. 139(l)(1). The actions relate to a proposed highway project, the 197/199 Safe STAA Access Project which involves curve realignment and widening at seven locations on SR 197 p.m. 3.2-4.5, and US 199 20.5-26.5, and the replacement of a bridge on US 199 p.m. 24.08 in the County of Del Norte, State of California. Those actions grant licenses, permits, and approvals for the project.

DATES: By this notice, the FHWA, on behalf of Caltrans, is advising the public of final agency actions subject to 23 U.S.C. 139(l) (1). A claim seeking judicial review of the Federal agency actions on the highway project will be barred unless the claim is filed on or before September 23, 2013. If the Federal law that authorizes judicial review of a claim provides a time period of less than 150 days for filing such claim, then that shorter time period still applies.

FOR FURTHER INFORMATION CONTACT:

Sandra Rosas, Senior Environmental Planner, California Department of Transportation, 1656 Union Street, Eureka, CA 95501, (707) 441-5730, Sandra_rosas@dot.ca.gov.

Carol Heidsiek, U.S. Army Corps of Engineers (USACE), 601 Startare Dr. Box 14, Eureka, CA 95501, (707) 443-0855, carol.a.heidsiek@spd02.usace.army.mil.

Greg Schmidt, U.S. Fish and Wildlife Service, 1655 Heindon Road, Arcata, California 95521, (707) 822-7201, Gregory_Schmidt@fws.gov.

George Frey, U.S.D.A. Six Rivers National Forest: Smith River National Recreation Area, 1330 Bayshore Way, Eureka, CA 95501, (707) 441-3631, gfrey@fs.fed.us.

Stephen Bowes, U.S. National Park Service, CA Wild and Scenic Rivers Coordinator, National Park Service, 1111 Jackson Street, Suite 700, Oakland, CA 94607, (510) 817-1451, stephen_bowes@nps.gov.

Chuck Glasgow, N.O.A.A. National Marine Fisheries Service, 1655 Heindon Road, Arcata, California 95521, (707) 825-5170, Chuck.Glasgow@NOAA.gov.

SUPPLEMENTARY INFORMATION: Effective July 1, 2007, the Federal Highway Administration (FHWA) assigned, and the California Department of Transportation (Caltrans) assumed environmental responsibilities for this project pursuant to 23 U.S.C. 327. Notice is hereby given that the Caltrans, and U.S.D.A. Forest Service, U.S. National Park Service, U.S. Fish and Wildlife Service, U.S. N.O.A.A. National Marine Fisheries Service, and U.S. Army Corp of Engineers have taken final agency actions subject to 23 U.S.C. 139(l)(1) by issuing licenses, permits, and approvals for the following highway project in the State of California: The proposed project is located in Del Norte County on SR 197 and US 199, east of US 101. The primary purpose of the proposed project is to improve spot locations on SR 197 and US 199 in Del Norte County to allow reclassification of the SR 197-US 199 corridor as part of the STAA network of truck routes. The project involves realigning curves, widening and replacement of a bridge. The actions by the Federal agencies, and the laws under which such actions were taken, are described in the Final Environmental Assessment (EA) for the project, approved on April 10, 2013, in the FHWA Finding of No Significant Impact (FONSI) issued on April 10, 2013, and in other documents in the FHWA project records. The EA, FONSI, and other project records are available by contacting Caltrans at the addresses provided above. The Caltrans EA and FONSI can be viewed and downloaded from the project Web site at http://www.dot.ca.gov/dist1/d1projects/197-199_staa/

The U.S. Army Corp of Engineers decision and Nation Wide Permit are available by contacting the U.S. Army Corp of Engineers at the address provided above.

The U.S. Fish and Wildlife Service consultation and Biological Opinion are available by contacting the U.S. Fish and Wildlife Service at the address provided above.

The U.S. N.O.A.A National Marine Fisheries consultation and Letter of Concurrence are available by contacting U.S. N.O.A.A National Marine Fisheries at the address provided above.

The Forest Service 4(f) and National Scenic Rivers consultations are available by contacting the Forest Service at the address provided above.

The U.S National Park Service National Scenic River consultation is available by contacting the National Park Service at the address provided above.

This notice applies to all Federal agency decisions as of the issuance date of this notice and all laws under which such actions were taken, including but not limited to:

1. General: National Environmental Policy Act (NEPA) [42 U.S.C. 4321-4351]; Federal Aid Highway Act; [23 U.S. C109].

2. Air: Clean Air Act 42 U.S.C. 7401-7671(q).

3. Migratory Bird Treaty Act [16 U.S.C. 703-712].

4. Historic and Cultural Resources: Section 106 of the National Historic Preservation Act of 1966, as amended [16 U.S.C. 470(aa)-11].

5. Social and Economic: Civil Rights Act of 1964 [42 U.S.C. 2000(d)-2000(d) (1)]; The Uniform Relocation Assistance Act and Real Property Acquisition Policies Act of 1970, as amended.

6. Hazardous Materials: Comprehensive Environmental response, Compensation, and Liability Act (CERCLA), 42 U.S.C. 9601-9675; Superfund Amendments and Reauthorization Act of 1986 (SARA).

7. Executive Orders: E.O. 11990 Protection of Wetlands; E.O. 11988 Floodplain Management; E.O. 12898 Federal Actions to Address Environmental Justice in Minority Populations and Low Income Populations; E.O. 11593 Protection and Enhancement of Cultural Resources; E.O. 13112 Invasive Species.

8. Wild and Scenic Rivers 16 U.S.C. 1271-1287.

9. Endangered Species Act 16 U.S.C. 1531-1543.

10. Clean Water Act 33 U.S.C. 1251-1376.

(Catalog of Federal Domestic Assistance Program Number 20.205, Highway Planning and Construction. The regulations implementing Executive Order 12372 regarding intergovernmental consultation on Federal programs and activities apply to this program.)

Authority: 23 U.S.C. 139(l) (1).

Issued on: April 17, 2013.
Steve Pyburn,
North Team Leader, State Programs, Federal Highway Administration, Sacramento, California.

[FR Doc. 2013-09659 Filed 4-23-13; 8:45 am]

BILLING CODE 4910-RY-P